DEPARTMENT OF THE TREASURY

Office of Thrift Supervision

[AC-03: OTS Nos. H-4023 and 17969]

Hudson City Bancorp, Inc., Paramus, New Jersey; Approval of Conversion Application

Notice is hereby given that on April 4, 2005, the Assistant Managing Director, Examinations and Supervision—Operations, Office of Thrift Supervision (“OTS”), or her designee, acting pursuant to delegated authority, approved the application of Hudson City Savings Bank, Paramus, New Jersey, to convert to the stock form of organization. Copies of the application are available for inspection by appointment (phone number: 202-906-5922 or e-mail: Public.Info@OTS.Treas.gov) at the Public Reading Room, OTS, 1700 G Street, NW., Washington, DC 20552, and OTS Northeast Regional Office, Harborside Financial Center Plaza Five, Suite 1600, Jersey City, New Jersey 07311.

Dated: April 6, 2005.
By the Office of Thrift Supervision.
Nadine Y. Washington,
Corporate Secretary.

[FR Doc. 05-7157 Filed 4-8-05; 8:45 am]

BILLING CODE 6720-01-M